DEPARTMENT OF TRANSPORTATION

Federal Aviation Administration

Harmonization Initiatives

AGENCY: Federal Aviation Administration, DOT.

ACTION: Notice of public meeting.

SUMMARY: This document announces a public meeting during which the Federal Aviation Administration (FAA) and other aviation authorities will accept input from the public on the Harmonization Work Program. The Harmonization Work Program is the means for aviation authorities to carry out a commitment to harmonize, to the maximum extent possible, the rules regarding the operation and maintenance of civil aircraft, and the standards, practices, and procedures governing the design, materials, workmanship, and construction of civil aircraft, aircraft engines, and other components. The purpose of this meeting is to provide an opportunity for the public to submit input to the Harmonization Work Program. This notice announces the date, time, location, and procedures for the public meeting.

DATES: The public meeting will be held on November 21, 2003 at 10:30 a.m. Written comments must be received no later than November 15, 2003.

ADDRESSES: The public meeting will be held at the Federal Aviation Administration Offices, 490 L'Enfant Plaza, Suite 3207, Washington, DC. Telephone (202) 267-3327, facsimile (202) 267-5075.

Persons who are unable to attend the meeting and wish to submit written comments may send comments using any of the following methods:

• Mail: Brenda Courtney, Federal Aviation Administration, Office of Rulemaking, ARM-200, 800 Independence Avenue, SW., Washington, DC 20591;

• Fax: 1-202-267-5075;

• Electronic mail: brenda.Courtney@faa.gov.

FOR FURTHER INFORMATION CONTACT: Requests to present a statement at the public meeting and questions regarding the logistics of the meeting should be directed to Brenda Courtney, Aircraft and Airport Rules Division, ARM-200, Federal Aviation Administration, 800 Independence Avenue SW., Washington, DC 20591; telephone (202) 267-3327, facsimile (202) 267-5075.

SUPPLEMENTARY INFORMATION: The Federal Aviation Administration (FAA) and the Joint Aviation Authorities (JAA) will convene a meeting to accept input from the public on the Harmonization Work Program. The meeting will be held on November 21, 2003 at FAA Headquarters Offices, 490 L'Enfant Plaza, GSA Training Center Room, Suite 3207, Washington, DC, beginning at 10:30 a.m. The agenda will include:

• Debrief on Items from the Authorities-Only Meeting of the Harmonization Management Team

• Debrief on Operations/Maintenance/Licensing Harmonization Group (OHG)

• Debrief on FAA/JAA/TCCA Certification Codes Harmonization Group (CCHG)

• Review/Approbation of Minutes of March 3-4, 2003 HMT Meeting

• Any Other Business

Lodging Arrangements

A block of rooms has been reserved until Wednesday, November 12, 2003, at Lowe's L'Enfant Plaza Hotel, 480 L'Enfant Plaza, SW., Washington, DC. Telephone 1-202-484-1000, extension 5000 or 1-800-635-5065, fax 1-202-646-5060. The room rate for all attendees of the HMT meeting will be the U.S. Government lodging rate of $150 per night (single room), $175 per night (double room), excluding 14.5 percent tax. In making your reservation, identify yourself as attending the FAA/Joint Aviation Authorities meeting to get the meeting rate. Special conditions: Any cancellations to reservations must be made 24 hours in advance in order to avoid a no-show penalty of one night's room charges. At check-in, each guest will be asked to confirm his/her departure dates and in the event of an unscheduled early departure, there will be a charge of $50.

Participation at the Public Meeting

The FAA should receive requests from persons who wish to present oral and written statements at the public meeting no later than November 15, 2003. Statements and presentations should be provided on diskette or forwarded by e-mail to the person identified under the caption FOR FURTHER INFORMATION CONTACT to be made part of the official minutes of the meeting. Requests to present oral statements received after November 15 will be scheduled if time is available during the meeting.

Public Meeting Procedures

Persons who plan to attend the meeting should be aware of the following procedures established for this meeting:

1. There will be no admission fee or other charge to attend or to participate in the public meeting. The meeting will be open to all persons who have requested in advance to present statements or who register on the day of the meeting, subject to availability of space in the meeting room.

2. The meeting may adjourn early if scheduled speakers complete their statements in less than the time scheduled for the meeting.

3. The FAA will try to accommodate all speakers. If the available time does not permit this, speakers generally will be scheduled on a first-come-first-served basis. However, the FAA reserves the right to exclude some speakers if necessary to present a balance of viewpoints and issues.

4. Sign and oral interpretation can be made available at the meeting, as well as an assistive listening device, if requested at the above number listed under FOR FURTHER INFORMATION CONTACT at least 10 calendar days before the meeting.

5. Representatives from FAA and JAA will preside over the meeting.

6. The FAA and JAA will review and consider all material presented by participants at the meeting. Position papers or material presenting views or information related to proposed harmonization initiatives may be accepted at the direction of the FAA and JAA. The FAA requests that persons participating in the meeting provide copies of all materials to be presented. Copies may be provided to the audience at the discretion of the participant.

7. Statements made by the FAA and JAA are intended to facilitate discussion of issues or to clarify issues. Any statement made during the meeting by an official is not intended to be, and should not be construed as, a position of the FAA or JAA.

8. The meeting is designed to solicit public views and more complete information on proposed harmonization initiatives. Therefore, the meeting will be conducted in an informal and nonadversarial manner. No individual will be subject to cross-examination by any other participant; however, panel members may ask questions to clarify a statement and to ensure a complete and accurate record.

Issued in Washington, DC, on November 5, 2003.
Brenda D. Courtney,
Manager, Aircraft and Airport Rules Division.

[FR Doc. 03-28241 Filed 11-5-03; 3:38 pm]

BILLING CODE 4910-13-P